DEPARTMENT OF ENERGY

Federal Energy Regulatory Commission

[Docket No. RP03-555-000]

Midwestern Gas Transmission Company; Notice of Compliance Filing

August 6, 2003.

Take notice that on August 1, 2003, Midwestern Gas Transmission Company (Midwestern ) tendered for filing to become part of its FERC Gas Tariff, Third Revised Volume No. 1, Second Revised Sheet No. 247, to become effective September 1, 2003.

Midwestern states that the purpose of this filing is to comply with the Commission's Order on Remand in Docket No. RM98-10-011 dated October 31, 2002 101 FERC ∥ 61,127, wherein the Commission found that it is no longer necessary to have a five year matching cap as part of the ROFR process. Midwestern states that in the ROFR process, a shipper may retain its capacity if it matches the highest rate and the longest term bid by a third party. Therefore, in accordance with the October 31, 2002 Order, Midwestern states that it is removing the five year matching cap from the ROFR process in its tariff.

Midwestern states that copies of this filing have been sent to all of Midwestern's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 13, 2003.

Magalie R. Salas,
Secretary.

[FR Doc. 03-20629 Filed 8-12-03; 8:45 am]

BILLING CODE 6717-01-P